DEPARTMENT OF COMMERCE

National Oceanic and Atmospheric Administration

[I.D. 032803A]

Endangered and Threatened Species; Take of Anadromous Fish

AGENCY: National Marine Fisheries Service (NMFS), National Oceanic and Atmospheric Administration (NOAA), Commerce.

ACTION: Notice of availability and request for comment.

SUMMARY: The Puget Sound Treaty Tribes and the Washington Department of Fish and Wildlife submitted to NMFS, pursuant to the protective regulations promulgated for Puget Sound chinook salmon under the Endangered Species Act (ESA), a jointly developed Resource Management Plan (RMP). The RMP specifies the future management of commercial, recreational and tribal salmon fisheries potentially affecting listed Puget Sound chinook salmon from May 1, 2003, through April 30, 2004. This document serves to notify the public of the availability for comment of the proposed evaluation of the Secretary of Commerce (Secretary) as to how the RMP addresses the criteria in the ESA.

DATES: Written comments on the Secretary's proposed evaluation must be received at the appropriate address or fax number (see ADDRESSES) no later than 5 p.m. Pacific Daylight Time on April 17, 2003.

ADDRESSES: Written comments and requests for copies of the proposed evaluation should be addressed to Keith Schultz, Sustainable Fisheries Division, National Marine Fisheries Service, 7600 Sand Point Way NE, Seattle, WA 98115-0070. Comments may also be sent via fax to 206/526-6736. The document is also available on the internet at http://www.nwr.noaa.gov/. Comments will not be accepted if submitted via e-mail or the internet.

FOR FURTHER INFORMATION CONTACT: Susan Bishop, Puget Sound Team Leader, at phone number: 206/526-4587, or e-mail: susan.bishop@noaa.gov.

SUPPLEMENTARY INFORMATION: This notice is relevant to the Puget Sound chinook salmon (Oncorhynchus tshawytscha) Evolutionarily Significant Unit (ESU).

Background

The Puget Sound Treaty Tribes and the Washington Department of Fish and Wildlife have provided to NMFS a jointly developed Resource Management Plan for Puget Sound chinook salmon. The RMP encompasses fisheries within the area defined by the Puget Sound Chinook Salmon ESU, as well as the western Strait of Juan de Fuca, which is not within the ESU. Harvest objectives specified in the RMP account for fisheries-related mortality throughout the migratory range of Puget Sound chinook salmon from Oregon and Washington to Southeast Alaska. The RMP also includes implementation, monitoring and evaluation procedures designed to ensure fisheries are consistent with these objectives.

As required by 50 CFR 223.203(b)(6) of the ESA 4(d) rule (50 CFR 223.203), the Secretary must determine pursuant to 50 CFR 223.209 and pursuant to the government-to-government processes therein whether the RMP for Puget Sound chinook salmon would appreciably reduce the likelihood of survival and recovery of the Puget Sound chinook salmon and other affected threatened ESUs. The Secretary must consider how the RMP addresses the criteria in 50 CFR 223.203(b)(4) in making that determination.

Authority

Under section 4(d) of the ESA, 16 U.S.C. 1533(d), the Secretary is required to adopt such regulations as he deems necessary and advisable for the conservation of the species listed as threatened. The ESA salmon and steelhead 4(d) rule (65 FR 42422, July 10, 2000) specifies categories of activities that contribute to the conservation of listed salmonids or are governed by a program that adequately limits impacts on listed salmonids, and sets out the criteria for such activities. The rule further provides that the prohibitions of paragraph (a) of the rule do not apply to actions undertaken in compliance with a resource management plan developed jointly within the continuing jurisdiction of United States v. Washington by the Puget Sound Treaty Tribes and the State of Washington (joint plan) and determined by the Secretary to be in accordance with the provisions of 50 CFR 223.203(b)(6).

A condensed 15-day written comment period on the Secretary's proposed evaluation is necessary given the short time between the submission of the Resource Management Plan to NMFS on February 21, 2003, and the start of the fishing season on May 1, 2003.

Dated: March 28, 2003.
Phil Williams,
Chief, Endangered Species Division, Office of Protected Resources, National Marine Fisheries Service.

[FR Doc. 03-7965 Filed 4-1-03; 8:45 am]

BILLING CODE 3510-22-S